DEPARTMENT OF HOMELAND SECURITY

Coast Guard

33 CFR Part 165

[Docket No. USCG-2019-0343]

Safety Zone; Marine Events Within the Eighth Coast Guard District

AGENCY: Coast Guard, DHS.

ACTION: Notice of enforcement of regulation.

SUMMARY: The Coast Guard will enforce a Safety Zone for the St. John the Baptist Independence day fireworks display from 8:45 p.m. through 9:45 p.m. on July 3, 2019, to provide for the safety of life on navigable waterways during this event. Our regulation for marine events within the Eighth Coast Guard District identifies the regulated area for this event on the Lower Mississippi River, by Reserve Louisiana. During the enforcement periods, the operator of any vessel in the regulated area must comply with directions from the Patrol Commander or any Official Patrol displaying a Coast Guard ensign.

DATES: The regulations in 33 CFR 165.801, Table 5, line 2 will be enforced from 8:45 p.m. through 9:45 p.m. on July 3, 2019.

FOR FURTHER INFORMATION CONTACT: If you have questions about this notice of enforcement, call or email Lieutenant Commander Benjamin Morgan, Sector New Orleans, U.S. Coast Guard; telephone 504-365-2281, email Benjamin.P.Morgan@uscg.mil.

SUPPLEMENTARY INFORMATION: The Coast Guard will enforce the safety zone described in 33 CFR 165.801, Table 5, line 2, as the St. John the Baptist Independence day fireworks display event from 8:45 p.m. through 9:45 p.m. on July 3, 2019. This action is being taken to provide for the safety of life on navigable waterways during this event. Our regulation for marine events within the Eighth Coast Guard District, § 165.801, specifies the location of the regulated area for the St. John the Baptist Independence day fireworks display between mile markers 137.5 and 138.5 on the Mississippi River near Reserve, Louisiana. During the enforcement period, as reflected in § 165.801(a)-(d), if you are the operator of a vessel in the safety zone, you must comply with directions from the Captain of the Port Sector New Orleans or a designated representative.

In addition to this notice of enforcement in the Federal Register, the Coast Guard plans to provide notification of this enforcement period via the local notice to mariners and marine information broadcasts.

Dated: May 14, 2019.
K.M. Luttrell,
Captain, U.S. Coast Guard, Captain of the Port Sector New Orleans.

[FR Doc. 2019-10353 Filed 5-17-19; 8:45 am]

BILLING CODE 9110-04-P